FEDERAL COMMUNICATIONS COMMISSION

[CC Docket No. 92-237; DA 19-1212]

Next Meeting of the North American Numbering Council

AGENCY: Federal Communications Commission.

ACTION: Notice.

SUMMARY: In this document, the Commission released a public notice announcing the meeting of the North American Numbering Council (NANC).

DATES: December 16, 2019. The meeting will come to order at 9:30 a.m.

ADDRESSES: Federal Communications Commission, 445 12th Street SW, Room TW-C305, Washington, DC 20554.

FOR FURTHER INFORMATION CONTACT: Marilyn Jones, Designated Federal Officer of the NANC, at marilyn.jones@fcc.gov., or (202) 418-2357; Jordan Reth, Alternate DFO, at jordan.reth@fcc.gov, or 202-418-1418; or Carmell Weathers, Special Assistant to the DFO at carmell.weathers@fcc.gov, or (202) 418-2325. The fax number is: (202) 418-1413. The TTY number is: (202) 418-0484. More information about the NANC is available at https://www.fcc.gov/about-fcc/advisory-committees/general/north-american-numbering-council.

SUPPLEMENTARY INFORMATION: The NANC meeting is open to the public. The FCC will accommodate as many attendees as possible; however, admittance will be limited to seating availability. The Commission will also provide audio coverage of the meeting. Other reasonable accommodations for people with disabilities are available upon request. Requests for such accommodations should be submitted via email to fcc504@fcc.gov or by calling the Consumer and Governmental Affairs Bureau @ (202) 418-0530 (voice), (202) 418-0432 (TTY). Such requests should include a detailed description of the accommodation needed. In addition, please include a way for the FCC to contact the requester if more information is needed to fill the request. Please allow at least five days advance notice for accommodation requests; last minute requests will be accepted but may not be possible to accommodate.

Members of the public may submit comments to the NANC in the FCC's Electronic Comment Filing System, ECFS, at www.fcc.gov/ecfs. Comments to the NANC should be filed in CC Docket No. 92-237.

Requests to make an oral statement or provide written comments to the NANC should be sent to Carmell Weathers, Competition Policy Division, Wireline Competition Bureau, Federal Communications Commission, Portals II, 445 12th Street SW, Room 5-C162, Washington, DC 20554 or emailed to Carmell.Weathers@fcc.gov.

This is a summary of the Commission's document in CC Docket No. 92-237, DA 19-1212 released November 26, 2019. The complete text in this document is available for public inspection and copying during normal business hours in the FCC Reference Information Center, Portals II, 445 12th Street SW, Room CY-A257, Washington, DC 20554. The document may also be purchased from the Commission's duplicating contractor, Best Copy and Printing, Inc., 445 12th Street SW, Room CY-B402, Washington, DC 20554, telephone (800) 378-3160 or (202) 863-2893, facsimile (202) 863-2898, or via the internet at http://www.bcpiweb.com. It is available on the Commission's website at http://www.fcc.gov.

Proposed Agenda: The primary agenda of this meeting will be to introduce members of the Committee, discuss the technical required documents for the Reassigned Numbers Database, and provide more information about the working group charges. This agenda may be modified at the discretion of the NANC Chair and the Designated Federal Officer (DFO).

Federal Communications Commission.
Marilyn Jones,
Senior Counsel for Number Administration, Wireline Competition Bureau.

[FR Doc. 2019-26277 Filed 12-4-19; 8:45 am]

BILLING CODE 6712-01-P